DEPARTMENT OF TRANSPORTATION

Surface Transportation Board

[STB Finance Docket No. 33907]

Nashville & Western Railroad Corp.—Operation Exemption—Cheatham County Rail Authority

Nashville & Western Railroad Corp. (N&WRR), a noncarrier, has filed a verified notice of exemption under 49 CFR 1150.31 to operate a line of railroad owned by the Cheatham County Rail Authority (Rail Authority). The line extends from Tennessee Central milepost 205.76, at Nashville, TN, to Tennessee Central milepost 185, at Ashland City, TN, a total distance of approximately 28.0 miles. N&WRR states that it will soon enter into agreements with the Central of Tennessee Railway & Navigation Company, Inc. (CoTRy) and the Rail Authority wherein N&WRR will succeed to the lease rights and obligations of the CoTRy under its lease and operating agreement with the Rail Authority. This change in operators is exempt under 49 CFR 1150.31(a)(3).¹

¹ In order to qualify for a change in operators exemption, an applicant must give notice to shippers on the line. See 49 CFR 1150.32(b). To ensure that any shippers are informed of the change of operators on the line, N&WRR is directed to provide notice of the change to all shippers on the line and to certify to the Board that it has done so.

According to the verified notice of exemption, the parties intended to finalize the transaction by August 1, 2000. This transaction is related to STB Finance Docket 33910, William J. Drunsic—Continuance in Control Exemption—Nashville & Western Railroad Corp., wherein William J. Drunsic has filed a verified notice of exemption to continue in control of the N&WRR upon N&WRR's becoming a Class III carrier. While the change in operators exemption in STB Finance Docket No. 33907 will be effective on July 31, 2000 (7 days after the exemption was filed), the exemption in STB Finance Docket No. 33910 will not become effective until August 2, 2000 (7 days after the July 26, 2000 filing date of the notice for that exemption). Therefore, the change in operators transaction may not lawfully be consummated until August 2, 2000, at the earliest. Counsel for N&WRR has been contacted by telephone and has acknowledged that the transaction may not be consummated until August 2, 2000.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33907, must be filed with the Surface Transportation Board, Office of the Secretary, Case Control Unit, 1925 K Street, NW, Washington, DC 20423-0001. In addition, a copy of each pleading must be served on John F. McHugh, McHugh & Barnes, P.C., 20 Exchange Place, New York, NY 10005.

Board decisions and notices are available on our website at “WWW.STB.DOT.GOV.”

Decided: July 28, 2000.
By the Board, David M. Konschnik, Director, Office of Proceedings.
Vernon A. Williams,
Secretary.

[FR Doc. 00-19780 Filed 8-3-00; 8:45 am]

BILLING CODE 4915-00-P